DEPARTMENT OF DEFENSE

Department of the Navy

[Docket ID: USN-2013-0034]

Proposed Collection; Comment Request

AGENCY: Headquarters Marine Corps, Plans, Policies and Operations, DoD.

ACTION: Notice.

SUMMARY: In compliance with Section 3506(c)(2)(A) of the Paperwork Reduction Act of 1995, Headquarters Marine Corps, Plans, Policies and Operations, announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by November 8, 2013.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to Headquarters Marine Corps, Plans Policies and Operations, Security Division (PS), Security Branch, Security Technologies Section, ATTN: Charles Pierce/Le'Ron Lawrence, 3000 Marine Corps Pentagon Rm 4A324, Washington, DC 20350-3000, or call 703-692-4333/703-634-2638.

SUPPLEMENTARY INFORMATION: Title; Associated Form; and OMB Number: Department of Navy Local Population Access Registration Form; MC-XXX; OMB Control Number 0703-TBD.

Needs and Uses: The information collection requirement is necessary to control physical access to Department of Defense (DOD), Department of the Navy (DON) or U.S. Marine Corps Installations/Units controlled information, installations, facilities, or areas over which DOD, DON or U.S. Marine Corps has security responsibilities by identifying or verifying an individual through the use of biometric databases and associated data processing/information services for designated populations for purposes of protecting U.S./Coalition/allied government/national security areas of responsibility and information; to issue badges, replace lost badges and retrieve passes upon separation; to maintain visitor statistics; collect information to adjudicate access to facility; and track the entry/exit of personnel.

Affected Public: General Public; Business or other for profit; Not-for-profit institutions.

Annual Burden Hours: 327,289.

Number of Respondents: 1,963,733.

Responses per Respondent: 1.

Average Burden per Response: 10 minutes.

Frequency: Annually.

Respondents are members of the general public, businesses or other for profit and not-for-profit institutions who are seeking to access DOD, DON or U.S. Marine Corps Installations/Bases, installations, facilities, or areas over which DOD, DON or U.S. Marine Corps has security responsibilities. The Department of the Navy Local Population Access Registration Form, MC-XXX records the personal identifiable information that is used at the time of registration for I-9 Identity proofing and to perform background checks to determine the fitness of personnel entering military installations. The completed form is used by the Marine Corps Installation Provost Marshal's Office/Police Departments to enter the records into the Installation's/Base's Physical Access Control System and the DOD's authoritative data source for the purpose of issuing a Installation Access Pass/Badge/ID and for the purpose of performing background checks. Respondents who provide their personal identifiable information are consenting to collection of information by their action of voluntarily offering their I-9 documents, or fingerprints, irises, and facial profiles for biometric collection. Failure to provide requested information may result in denial of access to DOD installations, facilities, and buildings.

Dated: September 3, 2013.
Aaron Siegel,
Alternate OSD Federal Register Liaison Officer, Department of Defense.

[FR Doc. 2013-21754 Filed 9-6-13; 8:45 am]

BILLING CODE 5001-06-P